NATIONAL SCIENCE FOUNDATION

Sunshine Act Meetings

AGENCY HOLDING MEETING: National Science Foundation, National Science Board.

DATE AND TIME:

May 3, 2000, 1 p.m.-1:30 p.m.: Closed Session

May 4, 2000, 11:30 a.m.-12:15 p.m.: Open Session

May 4, 2000, 1:30 p.m.-2 p.m.: Closed Session

May 4, 2000, 2 p.m.-5 p.m.: Open Session

PLACE: The National Science Foundation, Room 1235, 4201 Wilson Boulevard, Arlington, VA 22230.

STATUS:

Part of this meeting will be closed to the public. Part of this meeting will be open to the public.

MATTERS TO BE CONSIDERED:

Wednesday, May 3

Closed Session (1 p.m.-1:30 p.m.)

Closed Session Minutes, March 2000

NSB Elections

Thursday, May 4

Open Session (11:30 a.m.-12:15 p.m.)

Presentation, Dr. Michael Turner, University of Chicago

Closed Session (1:30 p.m.-2 p.m.)

NSF Budget

Open Session (2 p.m.-5 p.m.)

Open Session Minutes, March 2000

Closed Session Items for August 2000

Chairman's Report

Director's Report

Executive Committee Annual Report

NSB 2001 Calendar

Committee Reports

Director's 1999 Merit Review Report

NSB Report on Communication and Outreach

NSF Budget and Planning

National S&E Infrastructure

Marta Cehelsky,
Executive Officer.

[FR Doc. 00-10502 Filed 4-24-00; 12:50 pm]

BILLING CODE 7555-01-M